DEPARTMENT OF COMMERCE

National Oceanic and Atmospheric Administration

[I.D. 010901F]

Pacific Fishery Management Council; Public Meeting

AGENCY: National Marine Fisheries Service (NMFS), National Oceanic and Atmospheric Administration (NOAA), Commerce.

ACTION: Notice of public meeting.

SUMMARY: The Pacific Fishery Management Council's (Council) Groundfish Management Team (GMT) will hold a working meeting which is open to the public.

DATES: The GMT working meeting will begin Tuesday, February 6, 2001 at 8 a.m. and may go into the evening until business for the day is completed. The meeting will reconvene from 8 a.m. to 5 p.m. Wednesday, February 7 and Thursday, February 8, from 8 a.m. to 4 p.m.

ADDRESSES: The meeting will be held at the Council office, Conference Room, 2130 SW Fifth Avenue, Suite 224, Portland, OR; telephone: 503-326-6352.

Council address: Pacific Fishery Management Council, 2130 SW Fifth Avenue, Suite 224, Portland, OR 97201.

FOR FURTHER INFORMATION CONTACT: Jim Glock, Groundfish Fishery Management Coordinator; telephone: (503) 326-6352.

SUPPLEMENTARY INFORMATION: The primary purpose of the GMT meeting is to review the groundfish management measures in place for the summer months and prepare recommendations for Council consideration, respond to assignments relating to implementation of the Council’s groundfish strategic plan, and address other assignments relating to the groundfish management. The following specific items comprise the draft agenda (1) evaluate 2001 trip limits and other management measures; (2) assignments relating to the groundfish strategic plan, which may include limited entry for the open access fishery and permit stacking for limited entry trawl vessels; (3) complete and/or review rebuilding plans for canary rockfish, cowcod, lingcod, Pacific Ocean perch; (4) begin preparation of widow and darkblotched rockfish rebuilding plans; (5) evaluate management options for 2001; (6) review the fixed gear sablefish permit stacking proposal and analysis; (7) elect chair and vice chair for 2001; and (8) prepare a draft work plan for 2001.

Although non-emergency issues not contained in this agenda may come before the GMT for discussion, those issues may not be the subject of formal GMT action during this meeting. GMT action will be restricted to those issues specifically listed in this notice and any issues arising after publication of this notice that require emergency action under section 305(c) of the Magnuson-Stevens Fishery Conservation and Management Act, provided the public has been notified of the GMT's intent to take final action to address the emergency.

Special Accommodations

The meeting is physically accessible to people with disabilities. Requests for sign language interpretation or other auxiliary aids should be directed to Ms. Carolyn Porter at (503) 326-6352 at least 5 days prior to the meeting date.

Dated: January 10, 2001.
Richard W. Surdi,
Acting Director, Office of Sustainable Fisheries, National Marine Fisheries Service.

[FR Doc. 01-1376 Filed 1-16-01; 8:45 am]

BILLING CODE 3510-22-S